DEPARTMENT OF HOUSING AND URBAN DEVELOPMENT

[Docket No. FR-6101-N-04]

Notice of Regulatory Waiver Requests Granted for the Fourth Quarter of Calendar Year 2018

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2018 and ending on December 31, 2018.

FOR FURTHER INFORMATION CONTACT: For general information about this notice, contact Ariel Pereira, Associate General Counsel for Legislation and Regulations, Department of Housing and Urban Development, 451 Seventh Street SW, Room 10282, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the fourth quarter of calendar year 2018.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2018 through December 31, 2018. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2018) before the next report is published (the first quarter of calendar year 2019), HUD will include any additional waivers granted for the fourth quarter in the next report.

Accordingly, information about approved waiver requests pertaining to HUD regulations is provided in the Appendix that follows this notice.

Dated: April 16, 2019.
J. Paul Compton, Jr.,
General Counsel.

Appendix—Listing of Waivers of Regulatory Requirements Granted by Offices of the Department of Housing and Urban Development October 1, 2018 Through December 31, 2018

Note to Reader: More information about the granting of these waivers, including a copy of the waiver request and approval, may be obtained by contacting the person whose name is listed as the contact person directly after each set of regulatory waivers granted. The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 92.252(d)(1) Utility Allowance Requirements.

Project/Activity: The City of Fitchburg, Massachusetts, requested a waiver of 24 CFR 92.252(d)(1) to allow use of the utility allowance established by local public housing agency for two HOME-assisted projects—Fitchburg Yarn Lofts and Ivory Keys Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Neal J. Rackleff, Assistant Secretary for Community Planning and Development.

Date Granted: October 3, 2018.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 10170, Washington, DC 20410, telephone (202) 708-2684.

• Regulation: 24 CFR 91.500(a) and corresponding provisions in section III.B. of 83 FR 40314.

Project/Activity: HUD's CDBG-DR Action Plan Review Period Deadline for State of Florida, Commonwealth of Puerto Rico, and the U.S. Virgin Islands.

Nature of Requirement: This waiver extended HUD's review period from 45 days to 60 days from the date of receipt of the Action Plan Amendment, which is the period in 42 U.S.C. 12705(c)(1). Based on HUD's receipt date of November 16, 2018, 24 CFR 91.500(a) would require HUD to complete its review of Florida's and Puerto Rico's CDBG DR Action Plan Amendments by December 30, 2018; and the Department extended the period for those reviews to January 14, 2019. Based on HUD's receipt date of November 20, 2018, 24 CFR 91.500(a) would require HUD to complete its review of the U.S. Virgin Islands' CDBG DR Action Plan Amendment by January 3, 2019; and the Department extended that review period to January 18, 2019.

Granted By: David Woll Jr., Principal Deputy Assistant Secretary for Community Planning and Development.

Date Granted: December 21, 2018.

Reason Waived: The devasting impact of Hurricanes Irma and Maria upon Florida, Puerto Rico, and the U.S. Virgin Islands is well established and the need for CDBG-DR funds is great to achieve long-term recovery. HUD may disapprove an amendment if it is incomplete. HUD works with grantees to resolve or provide additional information during the review period to avoid the need to disapprove the Action Plan or Action Plan Amendment. There were several issues related to the Action Plan Amendment, as submitted, that further discussion and revision during the review extension provided by this waiver would resolve, rather than HUD disapproving the Amendment which would have required grantees to take additional time to revise and resubmit their respective amendments. Additionally, the review period was curtailed by several holidays and the uncertainty of a federal government shutdown. This waiver avoided these delays in the award of the CDBG-DR funds to communities that continue to recovery from the hurricanes. As such, good cause was established, and the waiver was granted.

Contact: Claudette Fernandez, Director, Office of Block Grant Assistance, Office of Community Planning and Development, Department of Housing and Urban Development, 451 Seventh Street SW, Room 7272, Washington DC 20410, telephone (202) 402-4592.

• Regulation: 24 CFR 91.500(a) and corresponding provisions in section III.B. of 83 FR 40314.

Project/Activity: HUD's CDBG-DR Action Plan Review Period Deadline for State of Texas.

Nature of Requirement: This waiver extended HUD's review period from 45 days to 60 days from the date of receipt of the Action Plan Amendment, which is the period in 42 U.S.C. 12705(c)(1). Based on HUD's receipt date of October 12, 2018, 24 CFR 91.500(a) would require HUD to complete its review of Texas's CDBG DR Action Plan Amendment by November 26, 2018; and the Department extended the period for that review to December 11, 2018.

Granted By: David Woll Jr., Principal Deputy Assistant Secretary for Community Planning and Development.

Date Granted: November 30, 2018.

Reason Waived: The devasting impact of Hurricane Harvey upon Texas is well known and the need for CDBG-DR funds for Houston and Harris County is great to achieve long-term recovery. HUD may disapprove an amendment if it is incomplete. HUB works with grantees to resolve or provide additional information during the review period to avoid the need to disapprove the Action Plan or Action Plan Amendment. There were several issues related to the Action Plan Amendment, as submitted, that further discussion and revision during the review extension provided by this waiver would resolve, rather than HUD disapproving the Amendment which would have required the State to take additional time to revise and resubmit the Amendment. This waiver avoided this delay in the award of the CDBG-DR funds for the city of Houston and Harris County to recover from Hurricane Harvey. As such, good cause was established, and the waiver was granted.

Contact: Claudette Fernandez, Director, Office of Block Grant Assistance, Office of Community Planning and Development, Department of Housing and Urban Development, 451 Seventh Street SW, Room 7272, Washington DC 20410, telephone (202) 402-4592.

II. Regulatory Waivers Granted by the Office of Housing—Federal Housing Administration (FHA)

For further information about the following regulatory waivers, please see the name of the contact person that immediately follows the description of the waiver granted.

• Regulation: 24 CFR 219.220(b).

Project/Activity: Riverview Apartments I, FHA Project Number 033-SH014; and Riverview Apartments II, FHA Project Number 033-44052, Pittsburgh, PA. Riverview Apartments, Incorporated (Owner) seeks approval to defer repayment of the Flexible Subsidy Operating Assistance Loans on the subject projects.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Brian D. Montgomery, Assistant Secretary for Housing—Federal Housing Commissioner.

Date Granted: November 15, 2018.

Reason Waived: The owner requested and was granted waiver of the requirement to repay the Flexible Subsidy Operating Assistance Loans in full when they became due. Deferring the loan payments will preserve these affordable housing resources for an additional 35 years through the execution and recordation of a Rental Use Agreement.

Contact: Cindy Bridges, Senior Account Executive, Office of Housing, Department of Housing and Urban Development, 451 Seventh Street SW, Room 6168, Washington, DC 20410, telephone (202) 402-2603.

Regulation: 24 CFR 219.220(b).

Project/Activity: Springvale Terrace, FHA Project Number 000-43072, Silver Spring, MD. Springvale Terrace, Incorporated (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Brian D. Montgomery, Assistant Secretary for Housing—Federal Housing Commissioner.

Date Granted: November 15, 2018.

Reason Waived: The owner requested and was granted waiver of the requirement to repay the Flexible Subsidy Operating Assistance Loan in full when it became due. Deferring the loan payment will preserve the affordable housing resource for an additional 40 years through the execution and recordation of a Rental Use Agreement.

Contact: Cindy Bridges, Senior Account Executive, Office of Housing, Department of Housing and Urban Development, 451 Seventh Street SW, Room 6168, Washington, DC 20410, telephone (202) 402-2603.

• Regulation: 24 CFR 219.220(b).

Project/Activity: Lyon County Retirement Home, FHA Project Number 092-SH023T, Marshall, Minnesota. Lyon County Retirement Home, Incorporated (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Brian D. Montgomery, Assistant Secretary for Housing—Federal Housing Commissioner.

Date Granted: December 17, 2018.

Reason Waived: The owner requested and was granted waiver of the requirement to repay the Flexible Subsidy Operating Assistance Loan in full when it became due. Deferring the loan payment will preserve this affordable housing resource for an additional 20 years through the execution and recordation of a Rental Use Agreement.

Contact: Nathaniel Johnson, Senior Account Executive, Office of Housing, Department of Housing and Urban Development, 451 Seventh Street SW, Room 6172, Washington, DC 20410, telephone (202) 402-5156.

• Regulation: 24 CFR 266.200(b)(2).

Project/Activity: The Federal Financing Bank (FFB) Risk-Sharing Program regulations for 40 projects utilizing the Federal Financing Bank (FFB) Risk-Sharing Initiative through the end of Calendar Year 2019, Substantial Rehabilitation, Pennsylvania Housing Finance Agency (PHFA), Harrisburg, Pennsylvania, no project names listed.

Nature of Requirement: The Waiver of 24 CFR 266.200(b)(2), Substantial Rehabilitation. The Department will permit the revised definition of substantial rehabilitation (S/R) as described in the revised MAP Guide published on January 29, 2016, such that S/R is: Any scope of work that either (a) Exceeds in aggregate cost a sum equal to the `base per dwelling unit limit' times the applicable High Cost Factor, or (b) Replacement of two or more building systems. `Replacement' is when the cost of replacement work exceeds 50 percent of the cost of replacing the entire system.

The High Cost Factors for 2018 were recently published through a Housing Notice (HN) on May 23, 2018 and the revised statutory limits were published in the Federal Register on November 7, 2017. The 2018 base dwelling unit amount to determine substantial rehabilitation for FHA insured loan programs has been increased from $15,000 (changed from $6,500 per unit in the 2016 MAP guide) to $15,636. This amount will change annually based upon the change in the annual Consumer Price Index (CPI), along with the statutory limits or other inflation cost index published by HUD.

Granted By: Brian D. Montgomery, Assistant Secretary for Housing—Federal Housing Commissioner.

Date Granted: December 21, 2018.

Reason Waived: Granted waivers of certain provisions of the Federal Financing Bank (FFB) Risk-Sharing Program regulations for forty (40) projects utilizing the Federal Financing Bank (FFB) Risk-Sharing Initiative through the end of Calendar Year 2019. Under this initiative, FFB provides capital to participating Housing Finance Agencies (HFAs) to make multifamily loans insured under the Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(b)(2).

Project/Activity: Federal Financing Bank (FFB) Risk-Sharing Program regulations for an additional fifteen (15) projects for a total of 40 projects utilizing the Federal Financing Bank (FFB) Risk-Sharing Initiative through the end of Calendar Year 2019, Substantial Rehabilitation, the Massachusetts Housing Partnership (MHP), Boston, Massachusetts, no project names listed.

Nature of Requirement: The Waiver of 24 CFR 266.200(b)(2), Substantial Rehabilitation. The Department will permit the revised definition of substantial rehabilitation (S/R) as described in the revised MAP Guide published on January 29, 2016, such that S/R is: Any scope of work that either a) Exceeds in aggregate cost a sum equal to the `base per dwelling unit limit' times the applicable High Cost Factor, or b) Replacement of two or more building systems. `Replacement' is when the cost of replacement work exceeds 50 percent of the cost of replacing the entire system.

The High Cost Factors for 2018 were recently published through a Housing Notice (HN) on May 23, 2018 and the revised statutory limits were published in the Federal Register on November 7, 2017. The 2018 base dwelling unit amount to determine substantial rehabilitation for FHA insured loan programs has been increased from $15,000 (changed from $6,500 per unit in the 2016 MAP guide) to $15,636. This amount will change annually based upon the change in the annual Consumer Price Index (CPI), along with the statutory limits or other inflation cost index published by HUD.

Granted By: Brian D. Montgomery, Assistant Secretary for Housing—Federal Housing Commissioner.

Date Granted: December 17, 2018.

Reason Granted: Under this initiative, FFB provides capital to participating Housing Finance Agencies (HFAs) to make multifamily loans insured under the FHA Multifamily Risk Sharing Program. Granted waivers of certain provisions of the Federal Financing Bank (FFB) Risk-Sharing Program regulations for fifteen (15) projects utilizing the Federal Financing Bank (FFB) Risk-Sharing Initiative through the end of Calendar Year 2019.

Contact: Patricia M. Burke, Acting Director, Office of Multifamily Production, Office of Housing, Department of Housing and Urban Development, 451 Seventh Street SW, Room 6130, Washington, DC 20410, telephone (202) 402-5693

• Regulation: 24 CFR 266.200(b)(2).

Project/Activity: The Federal Financing Bank (FFB) Risk-Sharing Program regulations for an additional four (4) projects for a total of 30 projects utilizing the Federal Financing Bank (FFB) Risk-Sharing Initiative through the end of Calendar Year 2019, Substantial Rehabilitation, California Housing Finance Agency (CalHFA), Sacramento, California, no project names listed.

Nature of Requirement: The Waiver of 24 CFR 266.200(b)(2), Substantial Rehabilitation. The Department will permit the revised definition of substantial rehabilitation (S/R) as described in the revised MAP Guide published on January 29, 2016, such that S/R is: Any scope of work that either (a) Exceeds in aggregate cost a sum equal to the `base per dwelling unit limit' times the applicable High Cost Factor, or (b) Replacement of two or more building systems. `Replacement' is when the cost of replacement work exceeds 50 percent of the cost of replacing the entire system.

The High Cost Factors for 2018 were recently published through a Housing Notice (HN) on May 23, 2018 and the revised statutory limits were published in the Federal Register on November 7, 2017. The 2018 base dwelling unit amount to determine substantial rehabilitation for FHA insured loan programs has been increased from $15,000 (changed from $6,500 per unit in the 2016 MAP guide) to $15,636. This amount will change annually based upon the change in the annual Consumer Price Index (CPI), along with the statutory limits or other inflation cost index published by HUD.

Granted By: Brian D. Montgomery, Assistant Secretary for Housing—Federal Housing Commissioner.

Date Granted: December 17, 2018.

Reason Waived: Granted waivers of certain provisions of the Federal Financing Bank (FFB) Risk-Sharing Program regulations for four (4) projects utilizing the Federal Financing Bank (FFB) Risk-Sharing Initiative through the end of Calendar Year 2019. Under this initiative, FFB provides capital to participating Housing Finance Agencies (HFAs) to make multifamily loans insured under the Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(b)(2).

Project/Activity: The Federal Financing Bank (FFB) Risk-Sharing Program regulations for an additional 20 projects for a total of 38 projects utilizing the Federal Financing Bank (FFB) Risk-Sharing Initiative through the end of Calendar Year 2019, Substantial Rehabilitation, Minnesota Housing Finance Agency (Minnesota Housing), St. Paul, Minnesota, no project names listed.

Nature of Requirement: The Waiver of 24 CFR 266.200(b)(2), Substantial Rehabilitation. The Department will permit the revised definition of substantial rehabilitation (S/R) as described in the revised MAP Guide published on January 29, 2016, such that S/R is: Any scope of work that either (a) Exceeds in aggregate cost a sum equal to the `base per dwelling unit limit' times the applicable High Cost Factor, or (b) Replacement of two or more building systems. `Replacement' is when the cost of replacement work exceeds 50 percent of the cost of replacing the entire system.

The High Cost Factors for 2018 were recently published through a Housing Notice (HN) on May 23, 2018 and the revised statutory limits were published in the Federal Register on November 7, 2017. The 2018 base dwelling unit amount to determine substantial rehabilitation for FHA insured loan programs has been increased from $15,000 (changed from $6,500 per unit in the 2016 MAP guide) to $15,636. This amount will change annually based upon the change in the annual Consumer Price Index (CPI), along with the statutory limits or other inflation cost index published by HUD.

Granted By: Brian D. Montgomery, Assistant Secretary for Housing—Federal Housing Commissioner.

Date Granted: December 17, 2018.

Reason Waived: Granted waivers of certain provisions of the Federal Financing Bank (FFB) Risk-Sharing Program regulations for twenty (20) projects utilizing the Federal Financing Bank (FFB) Risk-Sharing Initiative through the end of Calendar Year 2019. Under this initiative, FFB provides capital to participating Housing Finance Agencies (HFAs) to make multifamily loans insured under the Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(c)(2).

Project/Activity: Federal Financing Bank (FFB) Risk Sharing Initiative, Equity Take Outs. Pennsylvania Housing Finance Agency (PHFA), Harrisburg, Pennsylvania.

Nature of Requirements: The Waiver of 24 CFR 266.200(c)(2), Existing Projects “Equity Take-outs”. The Department will permit the insured mortgage to exceed the sum of the total cost of acquisition, cost of financing, cost of repairs, and reasonable transaction costs, or “equity take-outs” in refinances of PHFA-financed projects and those outside PHFA's portfolio if the result is preservation with the following conditions:

1. Occupancy is no less than 93 percent for previous 12 months;

2. No defaults in the last 12 months of the HFA loan to be refinanced;

3. A 20-year affordable housing deed restriction placed on title that conforms to the Section 542(c) statutory definition;

4. A Property Capital Needs Assessment (PCNA) must be performed and funds escrowed for all necessary repairs, and reserves funded for future capital needs; and

5. For projects subsidized by Section 8 Housing Assistance Payment (HAP) contracts:

a. Owner agrees to renew HAP contract(s) for 20-year term, (subject to appropriations and statutory authorization, etc.), and

b. In accordance with regulations in 24 CFR 883.306(e), and Housing Notice 2012-14—Use of “New Regulation” Section 8 Housing Assistance Payments (HAP) Contracts Residual Receipts of Offset Project-Based Section 8 Housing Assistance Payments, if at any time PHFA determines that a project's excess funds (surplus cash) after project operations, reserve requirements and permitted distributions are met, PHFA must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned to HUD.

Granted By: Brian D. Montgomery, Assistant Secretary for Housing—Federal Housing Commissioner.

Date Granted: December 21, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24CFR 266.200(c)(2).

Project/Activity: Federal Financing Bank (FFB) Risk Sharing Initiative, Equity Take Outs. Massachusetts Housing Partnership (MHP), Boston, Massachusetts.

Nature of Requirement: The Waiver of 24 CFR 266.200(c)(2), Existing Projects “Equity Take-outs”. The Department will permit the insured mortgage to exceed the sum of the total cost of acquisition, cost of financing, cost of repairs, and reasonable transaction costs, or “equity take-outs” in refinances of MHP-financed projects and those outside MHP's portfolio if the result is preservation with the following conditions:

1. Occupancy is no less than 93 percent for previous 12 months;

2. No defaults in the last 12 months of the HFA loan to be refinanced;

3. A 20-year affordable housing deed restriction placed on title that conforms to the Section 542(c) statutory definition;

4. A Property Capital Needs Assessment (PCNA) must be performed and funds escrowed for all necessary repairs, and reserves funded for future capital needs; and

5. For projects subsidized by Section 8 Housing Assistance Payment (HAP) contracts:

a. Owner agrees to renew HAP contract(s) for 20-year term, (subject to appropriations and statutory authorization, etc.), and

b. In accordance with regulations in 24 CFR 883.306(e), and Housing Notice 2012-14—Use of “New Regulation” Section 8 Housing Assistance Payments (HAP) Contracts Residual Receipts of Offset Project-Based Section 8 Housing Assistance Payments, if at any time MHP determines that a project's excess funds (surplus cash) after project operations, reserve requirements and permitted distributions are met, MHP must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned to HUD.

Granted By: Brian D. Montgomery, Assistant Secretary for Housing—Federal Housing Commissioner.

Date Granted: December 17, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(c)(2).

Project/Activity: Federal Financing Bank (FFB) Risk Sharing Initiative, Equity Take Outs. California Housing Finance Agency (CalHFA), Sacramento, California

Nature of Requirements: The Waiver of 24 CFR 266.200(c)(2), Existing Projects “Equity Take-outs”. The Department will permit the insured mortgage to exceed the sum of the total cost of acquisition, cost of financing, cost of repairs, and reasonable transaction costs, or “equity take-outs” in refinances of CalHFA-financed projects and those outside CalHFA's portfolio if the result is preservation with the following conditions:

1. Occupancy is no less than 93 percent for previous 12 months;

2. No defaults in the last 12 months of the HFA loan to be refinanced;

3. A 20-year affordable housing deed restriction placed on title that conforms to the Section 542(c) statutory definition;

4. A Property Capital Needs Assessment (PCNA) must be performed and funds escrowed for all necessary repairs, and reserves funded for future capital needs; and

5. For projects subsidized by Section 8 Housing Assistance Payment (HAP) contracts:

a. Owner agrees to renew HAP contract(s) for 20-year term, (subject to appropriations and statutory authorization, etc.), and

b. In accordance with regulations in 24 CFR 883.306(e), and Housing Notice 2012-14—Use of “New Regulation” Section 8 Housing Assistance Payments (HAP) Contracts Residual Receipts of Offset Project-Based Section 8 Housing Assistance Payments, if at any time CalHFA determines that a project's excess funds (surplus cash) after project operations, reserve requirements and permitted distributions are met, CalHFA must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned to HUD.

Granted By: Brian D. Montgomery, Assistant Secretary for Housing—Federal Housing Commissioner.

Date Granted: December 17, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(c)(2).

Project/Activity: Federal Financing Bank (FFB) Risk Sharing Initiative, Equity Take Outs. Minnesota Housing Finance Agency (Minnesota Housing), St. Paul, Minnesota

Nature of Requirements: The Waiver of 24 CFR 266.200(c)(2), Existing Projects “Equity Take-outs”. The Department will permit the insured mortgage to exceed the sum of the total cost of acquisition, cost of financing, cost of repairs, and reasonable transaction costs, or “equity take-outs” in refinances of Minnesota Housing-financed projects and those outside Minnesota Housing's portfolio if the result is preservation with the following conditions:

1. Occupancy is no less than 93 percent for previous 12 months;

2. No defaults in the last 12 months of the HFA loan to be refinanced;

3. A 20-year affordable housing deed restriction placed on title that conforms to the Section 542(c) statutory definition;

4. A Property Capital Needs Assessment (PCNA) must be performed and funds escrowed for all necessary repairs, and reserves funded for future capital needs; and

5. For projects subsidized by Section 8 Housing Assistance Payment (HAP) contracts:

a. Owner agrees to renew HAP contract(s) for 20-year term, (subject to appropriations and statutory authorization, etc.), and

b. In accordance with regulations in 24 CFR 883.306(e), and Housing Notice 2012-14—Use of “New Regulation” Section 8 Housing Assistance Payments (HAP) Contracts Residual Receipts of Offset Project-Based Section 8 Housing Assistance Payments, if at any time Minnesota Housing determines that a project's excess funds (surplus cash) after project operations, reserve requirements and permitted distributions are met, Minnesota Housing must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned to HUD.

Granted By: Brian D. Montgomery, Assistant Secretary for Housing—Federal Housing Commissioner.

Date Granted: December 17, 2018

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(d).

Project/Activity: Federal Financing Bank (FFB) Risk Sharing Initiative, Underwriting of Projects with Section 8 HAP Contracts. Pennsylvania Housing Finance Agency (PHFA), Harrisburg, Pennsylvania.

Nature of Requirement: The Waivers of 24 CFR 266.200(d), Projects receiving Section 8 rental subsidies or other rental subsidies. For refinancing of Section 202 projects, and for Public Housing Authority (PHA) projects converting to Section 8 through the Rental Assistance Demonstration (RAD) Initiative, the Department will permit PHFA to underwrite the financing using current or to be adjusted project-based Section 8 assisted rents, even though they exceed the market rates. This is consistent with HUD Housing Notice 04-21, “Amendments to Notice 02-16: Underwriting Guidelines for Refinancing of Section 202, and Section 202/8 Direct Loan Repayments”, which grants authority only to those lenders refinancing with mortgage programs under the National Housing Act.

Granted By: Brian D. Montgomery, Assistant Secretary for Housing—Federal Housing Commissioner.

Date Granted: December 21, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(d).

Project/Activity: Federal Financing Bank (FFB) Risk Sharing Initiative, Underwriting of Projects with Section 8 HAP Contracts. Massachusetts Housing Partnership (MHP), Boston, Massachusetts.

Nature of Requirement: The Waivers of 24 CFR 266.200(d), Projects receiving Section 8 rental subsidies or other rental subsidies. For refinancing of Section 202 projects, and for Public Housing Authority (PHA) projects converting to Section 8 through the Rental Assistance Demonstration (RAD) Initiative, the Department will permit MHP to underwrite the financing using current or to be adjusted project-based Section 8 assisted rents, even though they exceed the market rates. This is consistent with HUD Housing Notice 04-21, “Amendments to Notice 02-16: Underwriting Guidelines for Refinancing of Section 202, and Section 202/8 Direct Loan Repayments”, which grants authority only to those lenders refinancing with mortgage programs under the National Housing Act.

Granted By: Brian D. Montgomery, Assistant Secretary for Housing—Federal Housing Commissioner.

Date Granted: December 17, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(d).

Project/Activity: Federal Financing Bank (FFB) Risk Sharing Initiative, Underwriting of Projects with Section 8 HAP Contracts. California Housing Finance Agency (CalHFA), Sacramento, California.

Nature of Requirement: The Waivers of 24 CFR 266.200(d), Projects receiving Section 8 rental subsidies or other rental subsidies. For refinancing of Section 202 projects, and for Public Housing Authority (PHA) projects converting to Section 8 through the Rental Assistance Demonstration (RAD) Initiative, the Department will permit CalHFA to underwrite the financing using current or to be adjusted project-based Section 8 assisted rents, even though they exceed the market rates. This is consistent with HUD Housing Notice 04-21, “Amendments to Notice 02-16: Underwriting Guidelines for Refinancing of Section 202, and Section 202/8 Direct Loan Repayments”, which grants authority only to those lenders refinancing with mortgage programs under the National Housing Act.

Granted By: Brian D. Montgomery, Assistant Secretary for Housing—Federal Housing Commissioner.

Date Granted: December 17, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(d).

Project/Activity: Federal Financing Bank (FFB) Risk Sharing Initiative, Underwriting of Projects with Section 8 HAP Contracts. Minnesota Housing Finance Agency (Minnesota Housing), St. Paul, Minnesota.

Nature of Requirement: The Waivers of 24 CFR 266.200(d), Projects receiving Section 8 rental subsidies or other rental subsidies. For refinancing of Section 202 projects, and for Public Housing Authority (PHA) projects converting to Section 8 through the Rental Assistance Demonstration (RAD) Initiative, the Department will permit Minnesota Housing to underwrite the financing using current or to be adjusted project-based Section 8 assisted rents, even though they exceed the market rates. This is consistent with HUD Housing Notice 04-21, “Amendments to Notice 02-16: Underwriting Guidelines for Refinancing of Section 202, and Section 202/8 Direct Loan Repayments”, which grants authority only to those lenders refinancing with mortgage programs under the National Housing Act.

Granted By: Brian D. Montgomery, Assistant Secretary for Housing—Federal Housing Commissioner.

Date Granted: December 17, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.410(e).

Project/Activity: Illinois Housing Development Authority (IHDA), Chicago, Illinois, no project name or number.

Nature of Requirement: The 24 CFR 266.410(e), which requires mortgages insured under the 542(c) Housing Finance Agency Risk Sharing Program to be fully amortized over the term of the mortgage. The waiver would permit IHDA to use balloon loans that would have a minimum term of 17 years and a maximum amortization period of 40 years for the projects identified in the “Multifamily Pipeline Projects”.

Granted By: D Brian D. Montgomery, Assistant Secretary for Housing—Federal Housing Commissioner.

Date Granted: December 6, 2018.

Reason Waived: The waiver was granted to allow IHDA's clients additional financing options to their customers and to align IHDA business practices with industry standards. This waiver is effective through October 31, 2020. The regulatory waiver is subject to the following conditions:

1. The waiver is limited to thirty (30) transactions and expires on October 31, 2020.

2. Illinois Housing Development Authority must elect to take 50 percent or more of the risk of loss on all transactions;

3. Mortgages made under this waiver may have amortization periods of up to 40 years, but with a minimum term of 17 years;

4. All other requirements of 24 CFR 266.410—Mortgage Provision remain applicable. The waiver is applicable only to loans made under Illinois Housing Development Authority's Risk Sharing Agreement;

5. In accordance with 24 CFR 266.200(d), the mortgage may not exceed an amount supportable by the lower of the Section 8 or comparable unassisted rents;

6. Projects must comply with Davis-Bacon labor standards in accordance with 24 CFR 266.225;

7. Illinois Housing Development Authority must comply with regulations stated in 24 CFR 266.210 for insured advances or insurance upon completion transactions;

8. The loans exceeding $50 million require a separate waiver request;

9. Occupancy is no less than 93 percent for previous 12 months;

10. No defaults in the last 12 months of the HFA loan to be refinanced;

11. A 20-year affordable housing deed restriction placed on title that conforms to the Section 542(c) statutory definition;

12. A Property Capital Needs Assessment (PCNA) must be performed and funds escrowed for all necessary repairs, and reserves funded for future capital needs; and

13. For projects subsidized by Section 8 Housing Assistance Payment (HAP) contracts:

i. a: Owner agrees to renew HAP contract(s) for 20-year term, (subject to appropriations and statutory authorization, etc.), and b: In accordance with regulations in 24 CFR 883.306(e), and Housing Notice 2012-14—Use of “New Regulation” Section 8 Housing Assistance Payments (HAP) Contracts Residual Receipts of Offset Project-Based Section 8 Housing Assistance Payments, if at any time IHDA determines that a project's excess funds (surplus cash) after project operations, reserve requirements and permitted distributions are met, IHDA must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned.

Contact: Patricia M. Burke, Acting Director, Office of Multifamily Production, Office of Housing, Department of Housing and Urban Development, 451 Seventh Street SW, Room 6130, Washington, DC 20410, telephone (202) 402-5693.

• Regulation: 24 CFR 266.410(e).

Project/Activity: California Housing Finance Agency (CalHFA), Sacramento, California, no project name or number.

Nature of Requirement: The 24 CFR 266.410(e), which requires mortgages insured under the 542(c) Housing Finance Agency Risk Sharing Program to be fully amortized over the term of the mortgage. The waiver would permit CalHFA to use balloon loans that would have a minimum term of 17 years and a maximum amortization period of 40 years for the projects identified in the “Multifamily Pipeline Projects”.

Granted by: Brian D. Montgomery, Assistant Secretary for Housing—Federal Housing Commissioner.

Date Granted: December 17, 2018.

Reason Waived: The waiver was granted to allow CalHFA's clients additional financing options to their customers and to align CalHFA business practices with industry standards. The regulatory waiver is subject to the following conditions:

1. The waiver is limited to forty (40) transactions and expires on December 31, 2019.

2. CalHFA must elect to take 50 percent or more of the risk of loss on all transactions;

3. Mortgages made under this waiver may have amortization periods of up to 40 years, but with a minimum term of 17 years;

4. All other requirements of 24 CFR 266.410—Mortgage Provision remain applicable. The waiver is applicable only to loans made under CalHFA's Risk Sharing Agreement;

5. In accordance with 24 CFR 266.200(d), the mortgage may not exceed an amount supportable by the lower of the Section 8 or comparable unassisted rents;

6. Projects must comply with Davis-Bacon labor standards in accordance with 24 CFR 266.225;

7. CalHFA must comply with regulations stated in 24 CFR 266.210 for insured advances or insurance upon completion transactions;

8. The loans exceeding $50 million require a separate waiver request;

9. Occupancy is no less than 93 percent for previous 12 months;

10. No defaults in the last 12 months of the HFA loan to be refinanced;

11. A 20-year affordable housing deed restriction placed on title that conforms to the Section 542(c) statutory definition;

12. A Property Capital Needs Assessment (PCNA) must be performed and funds escrowed for all necessary repairs, and reserves funded for future capital needs; and

13. For projects subsidized by Section 8 Housing Assistance Payment (HAP) contracts:

i. a: Owner agrees to renew HAP contract(s) for 20-year term, (subject to appropriations and statutory authorization, etc.), and b: In accordance with regulations in 24 CFR 883.306(e), and Housing Notice 2012-14—Use of “New Regulation” Section 8 Housing Assistance Payments (HAP) Contracts Residual Receipts of Offset Project-Based Section 8 Housing Assistance Payments, if at any time CalHFA determines that a project's excess funds (surplus cash) after project operations, reserve requirements and permitted distributions are met, CalHFA must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned.

Contact: Patricia M. Burke, Acting Director, Office of Multifamily Production, HTD, Office of Housing, Department of Housing and Urban Development, 451 Seventh Street SW, Washington, DC 20410, telephone (202) 402-5693.

• Regulation: 24 CFR 266.620(e).

Project/Activity: Federal Financing Bank (FFB) Risk Sharing Initiative, Termination of Mortgage Insurance. Pennsylvania Housing Finance Agency (PHFA), Harrisburg, Pennsylvania

Nature of Requirement: The Waiver of 24 CFR 266.620(e) Termination of Mortgage Insurance. As required by the Initiative, PHFA agrees to indemnify HUD for all amount paid to FFB if “the HFA or its successors commit fraud or make a material misrepresentation to the Commissioner with respect to information culminating in the Contract of Insurance on the mortgage, or while the Contract of Insurance is in existence”.

Granted By: Brian D. Montgomery, Assistant Secretary for Housing—Federal Housing Commissioner.

Date Granted: December 21, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Room Washington, DC 20410, telephone (202) 402-5693.

• Regulation: 24 CFR 266.620(e).

Project/Activity: Federal Financing Bank (FFB) Risk Sharing Initiative, Termination of Mortgage Insurance. Massachusetts Housing Partnership (MHP).

Nature of Requirement: The Waiver of 24 CFR 266.620(e) Termination of Mortgage Insurance. As required by the Initiative, MHP agrees to indemnify HUD for all amount paid to FFB if “the HFA or its successors commit fraud or make a material misrepresentation to the Commissioner with respect to information culminating in the Contract of Insurance on the mortgage, or while the Contract of Insurance is in existence”.

Granted By: Brian D. Montgomery, Assistant Secretary for Housing—Federal Housing Commissioner.

Date Granted: December 17, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Room Washington, DC 20410, telephone (202) 402-5693.

• Regulation: 24 CFR 266.620(e).

Project/Activity: Federal Financing Bank (FFB) Risk Sharing Initiative, Termination of Mortgage Insurance. California Housing Finance Agency, Sacramento, California.

Nature of Requirement: The Waiver of 24 CFR 266.620(e) Termination of Mortgage Insurance. As required by the Initiative, CalHFA agrees to indemnify HUD for all amount paid to FFB if “the HFA or its successors commit fraud or make a material misrepresentation to the Commissioner with respect to information culminating in the Contract of Insurance on the mortgage, or while the Contract of Insurance is in existence”.

Granted By: Brian D. Montgomery, Assistant Secretary for Housing—Federal Housing Commissioner.

Date Granted: December 17, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Room Washington, DC 20410, telephone (202) 402-5693.

• Regulation: 24 CFR 266.620(e).

Project/Activity: Federal Financing Bank (FFB) Risk Sharing Initiative, Termination of Mortgage Insurance. Minnesota Housing Finance Agency (Minnesota Housing), St. Paul, Minnesota.

Nature of Requirement: The Waiver of 24 CFR 266.620(e) Termination of Mortgage Insurance. As required by the Initiative, Minnesota Housing agrees to indemnify HUD for all amount paid to FFB if “the HFA or its successors commit fraud or make a material misrepresentation to the Commissioner with respect to information culminating in the Contract of Insurance on the mortgage, or while the Contract of Insurance is in existence”.

Granted By: Brian D. Montgomery, Assistant Secretary for Housing—Federal Housing Commissioner.

Date Granted: December 17, 2018.

Reason Waived: Under this Initiative, FFB provides capital to participating Housing Finance Agencies (HFAs) to make multifamily loans insured under the FHA Multifamily Risk Sharing Program.

Contact: Patricia M. Burke, Acting Director, Office of Multifamily Production, Department of Housing and Urban Development, 451 Seventh Street SW, Room 6130, Washington, DC 20410, telephone (202) 402-5693.

• Regulation: 24 CFR 881.205 (c).

Project/Activity: SouthPark Apartments, FHA Number 043-35441, Columbus, Ohio. Lewistown Broadway, LLC (Owner) seeks approval to allow for new equity associated with the 4% Tax Credits and bonds from Ohio Housing Finance Agency to be infused into the project to be considered as “owner initial equity” for the purpose of calculating distributions.

Nature of Requirement: The regulation at 24 CFR 881.205 (c) defines terms applicable to determining the allowable distribution, and under this section “an owner's equity investment in a project is deemed to be 10 percent of the replacement cost of the part of the project attributable to dwelling use accepted by HUD at cost certification (see § 881.405), unless the owner justifies a higher equity contribution by cost certification documentation in accordance with HUD mortgage insurance procedures.”

Granted by: Brian D. Montgomery, Assistant Secretary for Housing—Federal Housing Commissioner.

Date Granted: December 14, 2018.

Reason Waived: The owner requested and was granted waiver of the requirement to allow for “new” equity infused by Tax Credits and bonds to be included in the calculation of the owner's distribution to be considered under the allowable equity as described in section 24 CFR 881.205 (c). Granting this waiver is consistent with both programmatic objectives and the Secretary's goal of maintaining affordable housing for low-income persons.

Contact: Kimberly Britt, Supervisory Branch Chief, Office of Housing, Department of Housing and Urban Development, 451 Seventh Street SW, Room 6178, Washington, DC 20410, telephone (202) 402-7576.

IV. Regulatory Waivers Granted by the Office of Public and Indian Housing

For further information about the following regulatory waivers, please see the name of the contact person that immediately follows the description of the waiver granted.

• Regulation: 24 CFR 1000.240 and 24 CFR 1000.242.

Project/Activity: Iowa Tribe of Kansas and Nebraska Housing Authority of White Cloud, Kansas, requested a waiver of the requirement to enter into a local cooperation agreement with Doniphan County, Kansas, covering services for IHBG-assisted housing in the County.

Nature of Requirement: 24 CFR 1000.240 and 24 CFR 1000.242 require IHBG recipients to enter into local cooperation agreements with the appropriate taxing authorities and ensure IHBG-assisted units are exempt from taxation. These requirements can be waived pursuant to Section 101(c) of NAHASDA and 24 CFR 1000.244.

Granted By: Dominique Blom, General Deputy Assistant Secretary for Public and Indian Housing.

Date Granted: December 20, 2018.

Reason Waived: Waiver of the requirement was approved because the Housing Authority demonstrated a good faith effort to fulfill the local cooperation agreement requirements.

Contact: Wayne Sims, Administrator, Office of Public and Indian Housing, Department of Housing and Urban Development, 301 NW 6th Street, Suite 200, Oklahoma City, OK 73102, telephone (405) 609-8520.

• Regulation: 24 CFR 965.653(a).

Project/Activity: Missouri Valley Housing Authority (MVHA).

Nature of Requirement: This requirement states that public housing agencies (PHAs) must implement a policy prohibiting the use of prohibited tobacco products in all public housing living units and interior areas, as well as in outdoor areas within 25 feet of dwelling units and administrative buildings.

Granted By: General Deputy Assistant Secretary for Public and Indian Housing.

Date Granted: October 11, 2018.

Reason Waived: Based upon the information provided, the Department determined that good cause existed to allow MVHA to maintain a Designated Smoking Area (DSA) less than 25 feet from the development as the structure was constructed prior to the finalization of the rule and finds that moving the DSA would be cost prohibitive.

Contact: Monica Shepherd, Public Housing Management and Occupancy Division, Office of Public Housing and Voucher Programs, Office of Public and Indian Housing, Department of Housing and Urban Development, 451 Seventh Street SW, Room 4208, Washington, DC 20410, telephone (202) 402-5687.

• Regulation: 24 CFR 965.653(a).

Project/Activity: Branson Housing Authority (BHA), Missouri.

Nature of Requirement: This requirement states that public housing agencies (PHAs) must implement a policy prohibiting the use of prohibited tobacco products in all public housing living units and interior areas, as well as in outdoor areas within 25 feet of dwelling units and administrative buildings.

Granted By: Dominique Blom, General Deputy Assistant Secretary for Public and Indian Housing.

Date Granted: November 15, 2018.

Reason Waived: Based upon the information provided, the Department determined that good cause existed to allow BHA to waive the requirement to prohibiting the use of prohibited tobacco products areas within 25 feet of dwelling units and administrative buildings as this perimeter exceeds the PHA property boundary line and requiring residents to smoke in areas beyond BHA's property line would result in significant safety issues.

Contact: Monica Shepherd, Public Housing Management and Occupancy Division, Office of Public Housing and Voucher Programs, Office of Public and Indian Housing, Department of Housing and Urban Development, 451 Seventh Street SW, Room 4208, Washington, DC 20410, telephone (202) 402-5687.

• Regulation: 24 CFR 982.355(b).

Project/Activity: Shasta Housing Authority (SHA) in Redding, California, requested a waiver of regulation 24 CFR 982.355(b) to allow the agency to stop accepting income portability families into its voucher program.

Nature of Requirement: The regulation 24 CFR 982.355(b) states that a receiving public housing authority (PHA) cannot refuse to assist incoming portable families or direct them to another neighboring PHA for assistance but that HUD may determine, in certain instances, that a PHA is not required to accept incoming portable families, such as a PHA in a declared disaster area. However, the PHA must have approval in writing from HUD before refusing any incoming portable families.

Granted By: Dominique Blom, General Deputy Assistant Secretary for Public and Indian Housing.

Date Granted: October 4, 2018.

Reason Waived: This waiver was approved because Shasta and Trinity Counites are presidentially declared disaster areas due to the Car fire burning in Northern California.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 985.101(a).

Project/Activity: Willimantic Housing Authority in Willimantic, Connecticut, requested a waiver of regulation 24 CFR 985.101(a) to allow them to submit the HUD required SEMAP certification after to the 60-day deadline.

Nature of Requirement: The regulation 24 CFR 985.101(a) requires public housing agencies (PHAs) to submit the HUD-required Section Eight Management Assessment Program (SEMAP) certification within 60 calendar days after the end of its fiscal year.

Granted By: Dominique Blom, General Deputy Assistant Secretary for Public and Indian Housing.

Date Granted: October 23, 2018.

Reason Waived: This waiver was approved due to confirmation from the Hartford Field office that the WHA submitted their SEMAP certification prior to the deadline but experienced technical issues on HUD's side of the system.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 983.301(f)(2)(ii) and 24 CFR 982.517.

Project/Activity: North Little Rock Housing Authority (NLRHA) requested a waiver of 24 CFR 983.301(f)(2)(ii) and 24 CFR 982.517 to establish a site-specific utility allowance at Holt District Homes, which is a Rental Assistance Demonstration (RAD) conversion site.

Nature of Requirement: The Public and Indian Housing (PIH) Notice—2018-11, H-2018-05, provides program requirements for the demonstration, which includes that a PHA may request a waiver from HUD for the aforementioned regulations in order to establish a site-specific utility allowance schedule at RAD conversion sites that also have non-RAD PBV units at the property.

Granted By: Dominique Blom, General Deputy Assistant Secretary for Public and Indian Housing.

Date Granted: October 4, 2018.

Reason Waived: This waiver was approved based on the finding that utility allowances, as currently calculated, would be excessive thus discouraging conservation and efficient use of HAP funds. Information submitted to HUD, by the NLRHA provides justification for the request.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(a)(3).

Project/Activity: The Housing Authority of the County of Los Angeles (HACoLA) in Alhambra, California, requested a waiver of the regulation 24 CFR 982.503(a)(3) for its HUD-VASH program so it could increase its payment standards for that program to 140 percent of the 2018 40th percentile Fair Market Rents (FMRs).

Nature of Requirement: The regulation, 24 CFR 982.503(a)(3) states that a public housing agency (PHA) voucher payment standard schedule shall establish a single payment standard amount for each unit size. For each unit size, the PHA may establish a single payment standard amount for the whole FMR area or may establish a separate payment standard amount for each designated part of the FMR area.

Granted By: Dominique Blom, General Deputy Assistant Secretary for Public and Indian Housing.

Date Granted: October 16, 2018.

Reason Waived: This waiver was approved because of the rising rents throughout the Los Angeles area and to better serve HUD-VASH families.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.505(c)(4).

Project/Activity: Housing Authority of the City of Los Angeles (HACLA) requested a waiver of 24 CFR 982.505 (c)(4) to allow their agency to apply the increased payment standard to the subsidy calculation at the time the rent increase is approved instead of waiting until the family's first regular reexamination.

Nature of Requirement: The regulation 24 CFR 982.505(c)(4) states that, if the payment standard amount is increased during the term of the HAP contract, the increased payment standard amount shall be used to calculate the monthly HAP for the family beginning at the effective date of the family's first regular reexamination on or after the effective date of the increased in the payment standard amount.

Granted By: Dominique Blom, General Deputy Assistant Secretary for Public and Indian Housing.

Date Granted: October 16, 2018.

Reason Waived: This waiver was approved to allow assisted families to remain in their units at an affordable rent and minimize the disruption and cost of relocating in an extremely tight market with a less than 4 percent vacancy rate. Additionally, HACLA has sufficient funding to support this proposal to use the increased payment standards between regularly scheduled reexaminations.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 985.101(a).

Project/Activity: Albany Housing Authority (AHA) in, Albany New York, requested a waiver of regulation 24 CFR 985.101(a) due to an oversight and to prove that they submitted the HUD required SEMAP certification in a timely manner.

Nature of Requirement: The regulation 24 CFR 985.101(a) requires public housing agencies (PHAs) to submit the HUD-required Section Eight Management Assessment Program (SEMAP) certification within 60 calendar days after the end of its fiscal year.

Granted By: Dominique Blom, General Deputy Assistant Secretary for Public and Indian Housing.

Date Granted: October 23, 2018.

Reason Waived: This waiver was approved due to documentation of technical issues within PIC system.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(a)(3) and 24 CFR 982.503(c)(2).

Project/Activity: Burbank Housing Authority (BHA) in Burbank, California, requested a waiver of the regulation 24 CFR 982.503(a)(3) and 24 CFR 982.503(c)(2) for its HUD-VASH program so it could increase its payment standards for that program to 120 percent of the 2018 Fair Market Rents (FMRs) for zero and one-bedroom units.

Nature of Requirement: The regulation, 24 CFR 982.503(a)(3). states that a public housing agency (PHA) voucher payment standard schedule shall establish a single payment standard amount for each unit size. For each unit size, the PHA may establish a single payment standard amount for the whole FMR area or may establish a separate payment standard amount for each designated part of the FMR area. A waiver of this regulation is necessary to establish a separate payment standard for the HUD-VASH program. The second regulation 24 CFR 982.503(c)(2) states that the HUD office may approve an exception payment standard amount from 110 percent of the published FMR to 120 percent of the published FMR if the HUD Field Office determines that approval is justified by either the median rent method of the 40th of 50th percentile rent method and that such approval is also supported by an appropriated program justification.

Granted By: Dominique Blom, General Deputy Assistant Secretary for Public and Indian Housing.

Date Granted: December 4, 2018.

Reason Waived: This waiver was approved because of the rising rents throughout the Los Angeles area and to better serve HUD-VASH families.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 5.801(c) and 24 CFR 5.801(d)(1).

Project/Activity: Puerto Rico Housing Finance Authority (RQ911).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: October 1, 2018.

Reason Waived: The HA requested relief from compliance for additional time to submit its financial reporting requirements for the fiscal year end (FYE) of June 30, 2017. The HA is still recovering from damages resulting from hurricanes which began September 20, 2017 and is in Category C of the applicable Major Disaster Declaration for Hurricane Maria. The circumstances preventing the HA from submitting its FYE 2017 audited financial data by the due date was acceptable. Accordingly, the HA has until March 31, 2019, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Puerto Rico Department of Housing (RQ901).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: October 1, 2018.

Reason Waived: The HA requested relief from compliance for additional time to submit its financial reporting requirements for the fiscal year end (FYE) of June 30, 2017. The HA is still recovering from damages resulting from hurricanes which began September 20, 2017 and is in Category C of the applicable Major Disaster Declaration for Hurricane Maria. The circumstances preventing the HA from submitting its FYE 2017 audited financial data by the due date was acceptable. Accordingly, the HA has until March 31, 2019, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

[FR Doc. 2019-08170 Filed 4-22-19; 8:45 am]

BILLING CODE 4210-67-P